DEPARTMENT OF TRANSPORTATION

Federal Aviation Administration

14 CFR Part 97

[Docket No. 30279; Amdt. No. 2078]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference-approved by the Director of the Federal Register on December 31, 1980, and reapproved as of January 1, 1982.

ADDRESSES: Availability of matters incorporated by reference in the amendment is as follows: For Examination—

1. FAA Rules Docket, FAA Headquarters Building, 800 Independence Avenue, SW., Washington, DC 20591;

2. The FAA Regional Office of the region in which the affected airport is located; or

3. The Flight Inspection Area Office which originated the SIAP.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK. 73169 (Mail P.O. Box 25082 Oklahoma City, OK. 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types of effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(i) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Navigation (Air).

Issued in Washington, DC, on November 9, 2001.
Nicholas A. Sabatini,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 106(g), 40103, 40113, 40120, 44701; and 14 CFR 11.49(b)(2).

§§ 97.23, 97.25, 97.27, 97.29, 97.31, 97.33, 97.35 [Amended]

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

* * * Effective November 29, 2001

Dalton, GA, Dalton Muni, NDB RWY 14, Amdt 1

Dalton, GA, Dalton Muni, LOC RWY 14, Orig

Dalton, GA, Dalton Muni, LOC RWY 14, Amdt 5A, CANCELLED

* * * Effective December 27, 2001

Egegik, AK, Egegik, RNAV (GPS) RWY 12, Orig

Egegik, AK, Egegik, RNAV (GPS) RWY 30, Orig

Little Rock, AR, Adams Field, RNAV (GPS) RWY 22R, Orig

Little Rock, AR, Adams Field, RNAV (GPS) RWY 22L, Orig

Little Rock, AR, Adams Field, RNAV (GPS) RWY 18, Orig

Little Rock, AR, Adams Field, RNAV (GPS) RWY 36, Orig

Little Rock, AR, Adams Field, RNAV (GPS) RWY 4R, Orig

Little Rock, AR, Adams Field, RNAV (GPS) RWY 4L, Orig

Little Rock, AR, Adams Field, ILS RWY 22L, Amdt 3

Little Rock, AR, Adams Field, GPS RWY 18, Orig-B CANCELLED

Little Rock, AR, Adams Field, GPS RWY 36, Orig CANCELLED

Little Rock, AR, Adams Field, GPS RWY 22L, Orig-A CANCELLED

Little Rock, AR, Adams Field, GPS RWY 22R, Orig-A CANCELLED

Little Rock, AR, Adams Field, GPS RWY 4R, Orig-A CANCELLED

Little Rock, AR, Adams Field, GPS RWY 4L, Orig-A CANCELLED

Little Rock, AR, Adams Field, RADAR-1 Amdt 16

Long Beach, CA Long Beach (Daughtery Field), RNAV (GPS) RWY 30, Orig

Sacramento, CA Sacramento Mather, RNAV (GPS) RWY 4R, Orig

Sacramento, CA Sacramento Mather, RNAV (GPS) RWY 22L, Orig

Ottumwa, IA, Ottumwa Industrial, RNAV (GPS) RWY 22, Orig

Ottumwa, IA, Ottumwa Industrial, VOR/DME RNAV OR GPS RWY 22, Amdt 3

CANCELLED

Angola, IN, Tri-State Steuben County, NDB RWY 5, Amdt 7

Angola, IN, Tri-State Steuben County, RNAV (GPS) RWY 5, Orig

Angola, IN, Tri-State Steuben County, RNAV (GPS) RWY 23, Orig

Angola, IN, Tri-State Steuben County, GPS RWY 5, Orig CANCELLED

Indian Head, MD Maryland, VOR-A, Orig

Sand Island, Midway Atoll, MQ, RNAV (GPS) RWY 6, Orig

Sand Island, Midway Atoll, MQ, RNAV (GPS) RWY 24, Orig

Sand Island, Midway Atoll, MQ, GPS RWY 6, Orig-A CANCELLED

Sand Island, Midway Atoll, MQ, GPS RWY 24, Orig-A CANCELLED

West Point, MS McCharen Field, RNAV (GPS) RWY 18, Orig

West Point, MS McCharen Field, RNAV (GPS) RWY 36, Orig

Kalispell, MT Glacier Park Intl, RNAV (GPS) RWY 2, Orig

Kalispell, MT Glacier Park Intl, RNAV (GPS) RWY 30, Orig

Angel Fire, NM, Angel Fire, RNAV (GPS) RWY 17, Orig

Stanley, ND, Stanley Muni, RNAV (GPS) RWY 27, Orig

Columbus, OH, Ohio State University, RNAV (GPS) RWY 9R, Orig

Columbus, OH, Ohio State University, GPS RWY 9R, Orig-C CANCELLED

Tulsa, OK Tulsa Intl, RNAV (GPS) RWY 18L, Orig

Tulsa, OK Tulsa Intl, RNAV (GPS) RWY 18R, Orig

Tulsa, OK Tulsa Intl, RNAV (GPS) RWY 26, Orig

Tulsa, OK Tulsa Intl, RNAV (GPS) RWY 36L, Orig

Tulsa, OK Tulsa Intl, RNAV (GPS) RWY 36R, Orig

Tulsa, OK Tulsa Intl, GPS RWY 8, Orig CANCELLED

Tulsa, OK Tulsa Intl, GPS RWY 18L, Orig CANCELLED

Tulsa, OK Tulsa Intl, GPS RWY 18R, Orig CANCELLED

Tulsa, OK Tulsa Intl, GPS RWY 26, Orig CANCELLED

Tulsa, OK Tulsa Intl, GPS RWY 36L, Orig CANCELLED

Tulsa, OK Tulsa Intl, GPS RWY 36R, Orig CANCELLED

Harrisburg, PA, Harrisburg Intl, RNAV (GPS) RWY 13, Orig

Harrisburg, PA, Harrisburg Intl, RNAV (GPS) RWY 31, Orig

Lancaster, PA, Lancaster, VOR/DME RWY 8, Amdt 4A

El Paso, TX, El Paso Intl, RNAV (GPS) RWY 22, Orig

Lubbock, TX, Lubbock Intl, RNAV (GPS) RWY 8, Orig

Lubbock, TX, Lubbock Intl, RNAV (GPS) RWY 17R, Orig

Lubbock, TX, Lubbock Intl, GPS RWY 26, Orig CANCELLED

Lubbock, TX, Lubbock Intl, RNAV (GPS) RWY 26, Orig

Lubbock, TX, Lubbock Intl, RNAV (GPS) RWY 35L, Orig

Lubbock, TX, Lubbock Intl, GPS RWY 8, Orig-A CANCELLED

Lubbock, TX, Lubbock Intl, GPS RWY 17R, Orig CANCELLED

Lubbock, TX, Lubbock Intl, GPS RWY 26, Orig CANCELLED

Lubbock, TX, Lubbock Intl, GPS RWY 35L, Orig-A CANCELLED

Midland, TX, Midland Intl, RNAV (GPS) RWY 10, Orig

Midland, TX, Midland Intl, GPS RWY 10, Orig CANCELLED

Roanoke, VA, Roanoke Regional/Woodrum Field, RNAV (GPS) RWY 6, Orig

Roanoke, VA, Roanoke Regional/Woodrum Field, RNAV (GPS) RWY 24, Orig

Roanoke, VA, Roanoke Regional/Woodrum Field, RNAV (GPS) RWY 33, Orig

Moses Lake, WA, Grant County Intl, RNAV (GPS) RWY 32R, Orig

Moses Lake, WA, Grant County Intl, GPS RWY 32R, Orig CANCELLED

The FAA published an Amendment in Docket No. 30276, Amdt No. 2076 to Part 97 of the Federal Aviation Regulations (Vol 66, FR No. 213, Page 55564; dated November 2, 2001) under section 97.27, effective 29 NOV 2001, which is hereby Amended as follows:

Memphis, TN, Memphis Intl, NDB RWY 9, Amdt 27

[FR Doc. 01-28866 Filed 11-16-01; 8:45 am]

BILLING CODE 4910-13-M